DEPARTMENT OF COMMERCE

International Trade Administration

[A-469-805]

Stainless Steel Bar from Spain: Rescission of Antidumping Duty Administrative Review; 2014-2015

AGENCY: Enforcement and Compliance, International Trade Administration, Department of Commerce.

SUMMARY: The Department of Commerce (the Department) is rescinding its administrative review of the antidumping duty order on stainless steel bar (SSB) from Spain for the period of review (POR) March 1, 2014, through February 28, 2015.

DATES: Effective date: August 5, 2015.

FOR FURTHER INFORMATION CONTACT: Andre Gziryan or Minoo Hatten AD/CVD Operations Office I, Enforcement and Compliance, International Trade Administration, U.S. Department of Commerce, 14th Street and Constitution Avenue NW., Washington, DC 20230; telephone: (202) 482-2201 and (202) 482-1690, respectively.

SUPPLEMENTARY INFORMATION:

Background

On March 2, 2015, the Department published a notice of opportunity to request an administrative review of the antidumping duty order on SSB from Spain for the POR.¹ On March 31, 2015, the petitioners ² requested an administrative review of the order with respect to Gerdau Aceros Especiales Europa, S.L. (Gerdau).³ On April 30, 2015, in accordance with section 751(a) of the Tariff Act of 1930, as amended (Act) and 19 CFR 351.221(c)(1)(i), we initiated an administrative review of the order on SSB with respect to Gerdau.⁴ On July 13, 2015, the petitioners timely withdrew their request for an administrative review of Gerdau.⁵

¹ See Antidumping or Countervailing Duty Order, Finding, or Suspended Investigation; Opportunity To Request Administrative Review, 80 FR 11161 (March 2, 2015).

² Carpenter Technology Corporation, Crucible Industries EEC, Electralloy, a Division of G.O. Carlson, Inc., North American Stainless, Universal Stainless & Alloy Products, Inc., and Valbruna Slater Stainless, Inc. (collectively, the petitioners)

³ See Letter from the petitioners to the Department, “Stainless Steel Bar from Spain; Petitioners' Request for 2014/2015 Administrative Review” (March 31, 2015).

⁴ See Initiation of Antidumping and Countervailing Duty Administrative Reviews, 80 FR 24233 (April 30, 2015).

⁵ See Letter from the petitioners to the Department, “Stainless Steel Bar from Spain: Petitioners' Withdrawal of Request for 2014/2015 Administrative Review” (July 13, 2015).

Rescission of Review

Pursuant to 19 CFR 351.213(d)(1), the Department will rescind an administrative review if a party that requested a review withdraws the request within 90 days of the date of publication of notice of initiation of the requested review. The petitioners withdrew their request for review within the 90-day time limit. Because no other party requested a review of Gerdau, we are rescinding this administrative review of the order on SSB from Spain.

Assessment

The Department will instruct U.S. Customs and Border Protection (CBP) to assess antidumping duties on all appropriate entries of SSB from Spain during the POR at rates equal to the cash deposit rate of estimated antidumping duties required at the time of entry, or withdrawal from warehouse, for consumption, in accordance with 19 CFR 351.212(c)(1)(i). The Department intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: July 28, 2015.
Christian Marsh,
Deputy Assistant Secretary for Antidumping and Countervailing Duty Operations.

[FR Doc. 2015-19104 Filed 8-4-15; 8:45 am]

BILLING CODE 3510-DS-P